DEPARTMENT OF EDUCATION

Office of Special Education and Rehabilitative Services; Special Education—Technical Assistance and Dissemination To Improve Services and Results for Children with Disabilities—Model Demonstration Centers on Progress Monitoring (CFDA No. 84.326M)

ACTION: Notice inviting applications for new awards for FY 2005; correction.

SUMMARY: On June 30, 2005, we published in the Federal Register (70 FR 37789) a notice inviting applications for new awards for FY 2005 for the Special Education—Technical Assistance and Dissemination to Improve Services and Results for Children with Disabilities—Model Demonstration Centers on Progress Monitoring Program. The notice contained incorrect dates.

On page 37789, third column, the date listed for Deadline for Intergovernmental Review is corrected to read “August 18, 2005.” On page 37792, first column, the date listed for Deadline for Transmittal of Applications is corrected to read “August 8, 2005.” On page 37792, second column, the date listed for Deadline for Intergovernmental Review is corrected to read “August 18, 2005.”

FOR FURTHER INFORMATION CONTACT: Grace Duran, U.S. Department of Education, 400 Maryland Avenue, SW., room 4088, Potomac Center Plaza, Washington, DC 20202-2600. Telephone: (202) 245-7328.

If you use a telecommunications device for the deaf (TTD), you may call the Federal Relay Service (FRS) at 1-800-877-8339.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 6, 2005.
John H. Hager,
Assistant Secretary for Special Education and Rehabilitative Services.

[FR Doc. 05-13693 Filed 7-11-05; 8:45 am]

BILLING CODE 4000-01-P